DEPARTMENT OF TRANSPORTATION

Federal Aviation Administration

Notice of a Non-Aeronautical Land-Use Change Effecting the Quitclaim Deed and Federal Grant Assurance Obligations at Delano Municipal Airport, Delano, CA

AGENCY: Federal Aviation Administration, DOT.

ACTION: Notice of a Non-Aeronautical Land-Use Change.

SUMMARY: The Federal Aviation Administration (FAA) proposes to rule and invites public comment on the application for a non-aeronautical land-use change for approximately 38 acres of airport property at Delano Municipal Airport, Delano, California, from the aeronautical use provisions of the Quitclaim Deed and Grant Agreement Assurances since the land is not needed for aeronautical purposes. The property will be leased for its fair market value and the rental proceeds deposited in the airport account for airport use. The reuse of the land for a solar farm and the non-aeronautical use of an old administrative building represent compatible land uses that will not interfere with the airport or its operation, thereby protecting the interests of civil aviation and contributing to the self-sustainability of the airport.

DATES: Comments must be received on or before August 8, 2012.

FOR FURTHER INFORMATION CONTACT: Comments on the request may be mailed or delivered to the FAA at the following address: Tony Garcia, Airports Compliance Program Manager, Federal Aviation Administration, Airports Division, Federal Register Comment, P.O. Box 92007, Los Angeles, CA 90009-2007. In addition, one copy of the comment submitted to the FAA must be mailed or delivered to Mr. Roman Dowling, Public Works Director, City of Delano, 1015 Eleventh Avenue, P.O. Box 3010, Delano, CA 93216-3010.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition imposed on a federally obligated airport by surplus property conveyance deeds or grant agreements.

The following is a brief overview of the request:

The City of Delano requested a modification of the conditions in the Quitclaim Deed and Grant Agreement Assurances to permit non-aeronautical use of approximately 38 acres of land at Delano Municipal Airport. The subject property is located east of the airfield and a small building is situated on the western edge of the airport. The land is presently undeveloped. A large tract of land will be redeveloped for a solar farm and a small building will be used for a non-aeronautical business. The City of Delano proposes to lease the property under the terms of a long-term lease for a solar farm since the land is not needed for aeronautical purposes. Reuse of the land for a solar farm will not impede future development of the airport. In addition, the City of Delano will lease a small vacant office building on the western edge of the airport in an undeveloped area to be used for a non-aviation business. The lease rate for both uses will be based on the appraised market value and the lease proceeds will be deposited in the airport account and used for airport purposes. The use of the property for a solar farm and a non-aviation business represents uses that are not incompatible and will not interfere with airport operations. The land will become revenue-producing property, which will enhance the self-sustainability of the airport and, thereby, serve the interests of civil aviation.

Issued in Hawthorne, California, on June 28, 2012.
Brian Armstrong,
Manager, Safety and Standards Branch, Airports Division, Western-Pacific Region.

[FR Doc. 2012-16691 Filed 7-6-12; 8:45 am]

BILLING CODE 4910-13-P